U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on February 1, 2024 on “Current and Emerging Technologies in U.S.-China Economic and National Security Competition.”

DATES: The hearing is scheduled for Thursday, February 1, 2024 at 9:30 a.m.

ADDRESSES: Members of the public will be able to attend in person at a location TBD or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the first public hearing the Commission will hold during its 2024 reporting cycle. The hearing will first examine national security risks created by the sale of Chinese information technology hardware and software products in the United States as well as potential tools to regulate their use. Next, the hearing will examine China's research relating to the military applications of artificial intelligence (AI) and quantum information science, and the recent advances it has made in these technologies. Finally, the hearing will examine China's progress in several emerging technologies at the forefront of U.S.-China competition, including the commercial applications of AI, bio-technology, and battery technology.

The hearing will be co-chaired by Commissioner Michael Wessel and Commissioner Jacob Helberg. Any interested party may file a written statement by February 1, 2024 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 11, 2024.
Christopher P. Fioravante,
Director of Operations and Administration, U.S.-China Economic and Security Review Commission.

[FR Doc. 2024-00749 Filed 1-16-24; 8:45 am]

BILLING CODE 1137-00-P